NUCLEAR REGULATORY COMMISSION

[NRC-2017-0039]

Information Collection: Collection of Operator Simulator Training Data

AGENCY: Nuclear Regulatory Commission.

ACTION: Proposed information collection.

SUMMARY: The U.S. Nuclear Regulatory Commission (NRC) invites public comment on this proposed collection of information. The information collection is entitled, “Collection of Operator Simulator Training Data.”

DATES: Submit comments by August 28, 2017. Comments received after this date will be considered if it is practical to do so, but the Commission is able to ensure consideration only for comments received on or before this date.

ADDRESSES: You may submit comments by any of the following methods:

• Federal Rulemaking Web site: Go to http://www.regulations.gov and search for Docket ID NRC-2017-0039. Address questions about NRC dockets to Carol Gallagher; telephone: 301-415-3463; email: Carol.Gallagher@nrc.gov. For technical questions, contact the individual listed in the FOR FURTHER INFORMATION CONTACT section of this document.

• Mail comments to: David Cullison, Office of the Chief Information Officer, Mail Stop: T-2 F43, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: INFOCOLLECTS.Resource@NRC.GOV.

SUPPLEMENTARY INFORMATION:

I. Obtaining Information and Submitting Comments

A. Obtaining Information

Please refer to Docket ID NRC-2017-0039 when contacting the NRC about the availability of information for this action. You may obtain publicly-available information related to this action by any of the following methods:

• Federal rulemaking Web site: Go to http://www.regulations.gov and search for Docket ID NRC-2017-0039.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement and the technical descriptions are available in ADAMS under Accession Nos. ML17125A016, ML17125A017, ML17080A074, ML17080A077, and ML17164A077.

• NRC's PDR: You may examine and purchase copies of public documents at the NRC's PDR, Room O1-F21, One White Flint North, 11555 Rockville Pike, Rockville, Maryland 20852.

• NRC's Clearance Officer: A copy of the collection of information and related instructions may be obtained without charge by contacting NRC's Clearance Officer, David Cullison, Office of the Chief Information Officer, U.S. Nuclear Regulatory Commission, Washington, DC 20555-0001; telephone: 301-415-2084; email: INFOCOLLECTS.Resource@NRC.GOV.

B. Submitting Comments

Please include Docket ID NRC-2017-0039 in the subject line of your comment submission, in order to ensure that the NRC is able to make your comment submission available to the public in this docket.

The NRC cautions you not to include identifying or contact information in comment submissions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

In accordance with the Paperwork Reduction Act of 1995 (44 U.S.C. chapter 35), the NRC is requesting public comment on its intention to request the OMB's approval for the information collection summarized below.

1. The title of the information collection: Collection of Operator Simulator Training Data.

2. OMB approval number: An OMB control number has not yet been assigned to this proposed information collection.

3. Type of submission: New.

4. The form number, if applicable: Not applicable.

5. How often the collection is required or requested: Licensees will provide a one-time response expressing their interest in participating. The NRC staff anticipates that the participating licensees would provide data six times per year.

6. Who will be required or asked to respond: U.S. nuclear power stations with an onsite reactor simulator.

7. The estimated number of annual responses: 95 (15 one-time responses + 90 annual responses).

8. The estimated number of annual respondents: 5.

9. The estimated number of hours needed annually to comply with the information: 411 hours.

10. Abstract: The NRC's Office of Nuclear Regulatory Research (NRC/RES) and the South Texas Project Nuclear Operating Company jointly developed the Scenario Authoring, Characterization, and Debriefing Application (SACADA) software for operator simulator training. The SACADA collects operator simulator performance information that can be used to improve simulator training and human reliability analysis. The NRC/RES is making the SACADA software available to licensees for their voluntary use. The licensees interested in participating in using the software will contact the NRC. The NRC will provide free software licenses, training, and technical support to facilitate the licensee's use of the software. The participating licensees would provide data approximately six times per year according to their training cycle to a master database currently maintained by the Idaho National Laboratory and sponsored by the NRC. The licensees would agree to let the NRC analyze the data for improving human reliability analysis techniques.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated at Rockville, Maryland, this 21st day of June 2017.
For the Nuclear Regulatory Commission.
David Cullison,
NRC Clearance Officer, Office of the Chief Information Officer.

[FR Doc. 2017-13335 Filed 6-26-17; 8:45 am]

BILLING CODE 7590-01-P